DEPARTMENT OF TRANSPORTATION

Federal Aviation Administration

Agency Information Collection Activities: Requests for Comments; Clearance of Renewed Approval of Information Collection: Aviation Maintenance Technical Schools

AGENCY: Federal Aviation Administration (FAA), DOT.

ACTION: Notice and request for comments.

SUMMARY: In accordance with the Paperwork Reduction Act of 1995, FAA invites public comments about our intention to request the Office of Management and Budget (OMB) approval to renew an information collection. The information collected is needed to determine applicant eligibility and compliance for certification of Civil Aviation mechanics and operation of aviation mechanic schools.

DATES: Written comments should be submitted by November 22, 2010.

FOR FURTHER INFORMATION CONTACT: Carla Scott on (202) 267-9895, or by e-mail at: Carla.Scott@faa.gov.

SUPPLEMENTARY INFORMATION: OMB Control Number: 2120-0040.

Title: Aviation Maintenance Technical Schools.

Form Numbers: FAA Form 8310-6.

Type of Review: Renewal of an information collection.

Background: 49 U.S.C. 44707 empowers the Administrator of the FAA to examine and rate air agencies. FAR Part 147 implements the provisions of the sections of that law by prescribing the requirements for issuing aviation maintenance technician school certificates and associated ratings and the general operating rule for the holders of those certificates and ratings. The collection of information (application or a certificate and rating) is necessary to ensure that Aviation Maintenance Technician Schools meet the minimum requirements for procedures and curriculum set forth by the FAA in FAR part 147. Applicants submit FAA Form 8310-6, Aviation Maintenance Technician School certificate and Ratings Application, to the appropriate FAA district office for review. If the application (including supporting documentation) is satisfactory, an on-site inspection is conducted. When all FAR part 147 requirements have been met, an aviation maintenance technician school certificate with appropriate ratings is issued.

Respondents: Approximately 174 representatives of aviation maintenance technician schools.

Frequency: Information is collected on occasion.

Estimated Average Burden per Response: 3.17 hours.

Estimated Total Annual Burden: 66,134 hours.

ADDRESSES: Send comments to the FAA at the following address: Ms. Carla Scott, Room 712, Federal Aviation Administration, IT Enterprises Business Services Division, AES-200, 800 Independence Ave., SW., Washington, DC 20591.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on September 15, 2010.
Carla Scott,
FAA Information Collection Clearance Officer, IT Enterprises Business Services Division, AES-200.

[FR Doc. 2010-23637 Filed 9-21-10; 8:45 am]

BILLING CODE 4910-13-P